DEPARTMENT OF ENERGY

Federal Energy Regulatory Commission

[Docket No. RP00-455-002]

Honeoye Storage Corporation; Notice of Proposed Change in FERC Gas Tariff

October 3, 2000.

Take notice that on September 28, 2000 Honeoye Storage Corporation (Honeoye) tendered for filing as part of its FERC Gas Tariff, Second Revised Volume 1, the following tariff sheet to be effective October 10, 2000:

First Revised Sheet No. 22B

Honeoye states that the purpose of the filing is to establish a new proposed Article XIX to the General Terms and Conditions of its Part 157 gas tariff that affords customers the right to make title transfers of top gas or cushion gas in the Honeoye Storage Field, but limits the availability of such title transfer authority of gas in place to only upon contract termination. Honeoye further requests that the Commission waive the requirements of Section 154.207 of its regulation so that revised tariff sheet may be made effective October 10, 2000 so that Honeoye may make arrangements to dispose of cushion gas and top gas which remains in the Honeoye gas field after termination of the Providence Gas Company gas storage agreement on March 31, 2000.

Honeoye states that its filing is consistent with the Commission's September 14, 2000 letter order in Docket No. RP00-455-000 which, among other matters, rejected without prejudice Honeoye's proposed tariff provision designed to grant its customers the right to make title transfers to other customers of gas which is held in the Honeoye gas field. The Commission's September 14 letter order found that the title transfer right provided more flexibility to Part 157 customers than is allowed under Commission policy. However, the Commission stated that its rejection of this provision was without prejudice to Honeoye's right to file a tariff provision limiting title transfers to only upon contract termination.

Honeoye states that copies of the filing are being mailed to Honeoye's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-25840 Filed 10-6-00; 8:45 am]

BILLING CODE 6717-01-M